FEDERAL COMMUNICATIONS COMMISSION

[FR ID 207973]

Open Commission Meeting Thursday, March 14, 2024

March 7, 2024.

The Federal Communications Commission will hold an Open Meeting on the subjects listed below on Thursday, March 14, 2024, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Public Safety & Homeland Security | Title: Cybersecurity Labeling for Internet of Things (PS Docket No. 23-239).
|  | Summary: The Commission will consider a Report and Order to create a voluntary cybersecurity labeling program for wireless consumer Internet of Things (IoT) products, which would help consumers make informed purchasing decisions, differentiate trustworthy products in the marketplace, and create incentives for manufacturers to meet higher cybersecurity standards.
2 | Wireline Competition | Title: Inquiry Concerning Deployment of Advanced Telecommunications Capability to All Americans in a Reasonable and Timely Fashion (GN Docket No. 22-270).
|  | Summary: The Commission will consider the draft 2024 Section 706 Report, which, if adopted, would fulfill the Commission's statutory responsibility under section 706 of the Telecommunications Act of 1996 and raise the fixed speed benchmark for advanced telecommunications capability to 100/20 Mbps.
3 | Wireless Telecommunications and Space | Title: Single Network Future: Supplemental Coverage from Space (GN Docket No. 23-65); Space Innovation (IB Docket No. 22-271).
|  | Summary: The Commission will consider a Report and Order and Further Notice of Proposed Rulemaking that would advance the Commission's vision for a single network future in which satellite and terrestrial networks work seamlessly together to provide coverage for consumer handsets that neither network can achieve on its own.
4 | Media | Title: All-In Cable and Satellite TV Pricing (MB Docket No. 23-203).
|  | Summary: The Commission will consider a Report and Order to require cable and satellite TV providers to specify the “all-in” price for video programming services in promotional materials and on subscribers' bills in order to allow consumers to make informed choices.
5 | Consumer & Governmental Affairs | Title: Wireless Emergency Alerts (PS Docket No. 15-91); Amendments to Part 11 of the Commission's Rules Regarding the Emergency Alert System (PS Docket No. 15-94).
|  | Summary: The Commission will consider a Notice of Proposed Rulemaking that would propose to facilitate the more efficient and widespread dissemination of alerts and coordinated responses to incidents involving missing and endangered persons, an issue that is particularly prevalent in Tribal communities.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairwoman may hold a news conference in which she will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission.
Katura Jackson,
Federal Register Liaison Officer, Office of the Secretary.

[FR Doc. 2024-05313 Filed 3-12-24; 8:45 am]

BILLING CODE 6712-01-P